DEPARTMENT OF COMMERCE

National Oceanic and Atmospheric Administration

Ocean Research Advisory Panel (ORAP)

AGENCY: National Oceanic and Atmospheric Administration (NOAA), Department of Commerce (DOC).

ACTION: Notice of public meeting.

SUMMARY: This notice sets forth the schedule and proposed agenda of a meeting of the Ocean Research Advisory Panel (ORAP). The members will discuss issues outlined in the section on Matters to be Considered.

DATES: The meeting is scheduled for October 29, 2025 from 2:00 p.m. to 4:00 p.m. Eastern Time (ET). This time and the agenda topics described below are subject to change. For the latest agenda please refer to the ORAP website: https://www.noaa.gov/ocean-research-advisory-panel/orap-public-meetings.

ADDRESSES: The October 29, 2025 meeting will be virtual. The link for the webinar registration will be posted, when available, on the ORAP website: https://www.noaa.gov/ocean-research-advisory-panel/orap-public-meetings.

FOR FURTHER INFORMATION CONTACT: Viviane Silva, ORAP Designated Federal Officer (DFO), SSMC3, Room 11320, 1315 East-West Hwy., Silver Spring, MD 20910; Phone Number: 240-624-0656; Email: DFO.orap@noaa.gov; or visit the ORAP website at https://www.noaa.gov/ocean-research-advisory-panel/orap-public-meetings.

SUPPLEMENTARY INFORMATION: The Ocean Research Advisory Panel (ORAP) advises the Ocean Policy Committee (OPC) and provides independent recommendations to the Federal Government on matters of ocean policy.

Congress directed the establishment of the ORAP in Section 1055(c) of the William M. (Mac) Thornberry National Defense Authorization Act for Fiscal Year 2021 (Pub. L. 116-283), 10 U.S.C. 8933.

Status: The October 29, 2025 meeting will be open to public participation with a 10-minute public comment period at time allocated on the published agenda. The ORAP expects that public statements presented at its meetings will not be repetitive of previously submitted verbal or written statements. In general, each individual or group making a verbal presentation will be limited to a total time of three minutes. Written comments for the October 29, 2025 meeting should be received by October 20, 2025 by the ORAP DFO (DFO.orap@noaa.gov) to provide sufficient time for ORAP review. Written comments received by the ORAP DFO after this date will be distributed to the ORAP, but may not be reviewed prior to the meeting date.

Special Accommodations: These meetings are physically accessible to people with disabilities. Requests for special accommodations may be directed to the ORAP DFO no later than 12:00 p.m. EST on October 14, 2025.

Matters to be Considered: During the ORAP meeting on December 13-14, 2023, the Ocean Policy Committee (OPC) requested that the ORAP advise on areas of opportunity for partnership (such as through the National Oceanic Partnership Program) on the topic of emerging technology (which could include Artificial Intelligence/Machine Learning, eDNA, and similar technology) with ocean industry and other sectors over the next 5-10 years. The OPC also requested that ORAP self-select another topic to address. The ORAP members agreed that the topic of accessible, inter-operable, interdisciplinary, and trusted ocean data to meet research and user needs is critical and deserves ORAP's immediate attention. At this virtual meeting on October 29, 2025, ORAP members will cover two main topics. First, ORAP will discuss the draft report that provides recommendations for supporting public-private partnerships to advance emerging ocean technologies. Second, ORAP will discuss nascent topics from the ORAP Report on “Toward a National Ocean Data Strategy (September 2024)” and the draft emerging ocean technologies report that may warrant further focused work. Meeting materials, including work products, will be available on the ORAP website: https://www.noaa.gov/ocean-research-advisory-panel/orap-public-meetings.

Dated: August 28, 2025.
David Holst,
Director Chief Financial Officer/CAO, Office of Oceanic and Atmospheric Research, National Oceanic and Atmospheric Administration.

[FR Doc. 2025-18191 Filed 9-18-25; 8:45 am]

BILLING CODE 3510-KD-P